DEPARTMENT OF THE INTERIOR

Bureau of Land Management

[OR-958-1430-ET; GPO-02-0039; OR-56289 et al]

Cancellation of Proposed Withdrawal, and Notice of Proposed Withdrawal and Opportunity for a Public Meeting; California and Oregon

AGENCY: Bureau of Land Management, Interior.

ACTION: Notice.

SUMMARY: The United States Forest Service canceled its application to withdraw approximately 1,093,953 acres of National Forest System lands to protect the Siskiyou Wild Rivers area. This notice terminates the temporary segregation of the National Forest System lands described below from location and entry under the mining laws. This notice also notifies the public that the Forest Service proposes to withdraw approximately 82,829.35 acres of National Forest System lands in the Siskiyou National Forest to protect endangered species and preserve outstanding botanical and scenic values. Subject to valid existing rights, this notice segregates the National Forest System lands described below for up to 2 years from location and entry under the United States mining laws. The lands have been and will remain open to such forms of disposition as may by law be made of National Forest System lands and mineral leasing.

DATES: The effective date of the Siskiyou Wild Rivers withdrawal application cancellation is May 21, 2002. The effective date of the Siskiyou withdrawal application is May 21, 2002. Comments on the new proposed withdrawal must be received by August 19, 2002.

ADDRESSES: Comments should be sent to the Forest Supervisor, Siskiyou National Forest, 333 West 8th Street, P.O. Box 520, Medford, Oregon 97501.

FOR FURTHER INFORMATION CONTACT: Rob Shull, Siskiyou National Forest, (541) 858-2200.

SUPPLEMENTARY INFORMATION: On January 22, 2001, a notice of proposed withdrawal was published in the Federal Register, 66 FR page 6664, segregating approximately 1,093,953 acres of National Forest System lands from location and entry under the United States mining laws. The proposed withdrawal as described in the Federal Register is hereby cancelled in its entirety on May 21, 2002. Subject to valid existing rights and other segregations of record, the lands described in the January notice are opened to such uses as may by law be made of National Forest System lands including location and entry under the United States mining law.

On October 18, 2001, the United States Forest Service, filed an application to withdraw the following described National Forest System lands from location and entry under the United States mining laws, subject to valid existing rights:

Willamette Meridian

Siskiyou National Forest

T. 32 S., R. 11 W.,

Sec. 5, E½SW¼, and SW¼SE¼;

Sec. 8, lots 1 and 2, W½NE¼, and NE¼NW¼.

T. 32 S., R. 12 W.,

Sec. 26, W½E½, SE¼NE¼, E½NW¼, SW¼NW¼, SW¼, and NE¼SE¼;

Sec. 27, NE¼SE¼ and S½S½;

Sec. 28, SE¼SE¼;

Sec. 33, E½ and SW¼;

Sec. 34, N½ and NW¼SW¼;

Sec. 35, NE¼NW¼ and W½NW¼.

T. 33 S., R. 12 W.,

Sec. 9, lot 4 and SE¼;

Sec. 10, lots 1 to 4, inclusive, SW¼, NE¼SE¼, and W½SE¼;

Sec. 15, W½W½;

Sec. 16, E½;

Sec. 20, S½SE¼;

Sec. 21, NE¼, SW¼SW¼, and N½SE¼;

Sec. 22, W½NW¼ and NW¼SW¼;

Sec. 28, NW¼, NE¼SW¼, and W½SW¼;

Sec. 29, E½ and SW¼;

Sec. 31, E½NE¼ and NE¼SE¼;

Sec. 32;

Sec. 33, W½W½ and NE¼SW¼.

T. 34 S., R. 10 W.,

Sec. 11, S½NE¼ and SE¼;

Sec. 12, E½NW¼, SW¼NW¼, SW¼, and SW¼SE¼;

Sec. 13, NW¼NE¼ and N½NW¼;

Sec. 14, NE¼, E½NW¼, W½SW¼, and NE¼SW¼;

Sec. 26, S½SW¼ and SW¼SE¼;

Sec. 33, E½NE¼;

Sec. 34, W½NE¼, NW¼, NW¼SW¼, E½SW¼, and SE¼;

Sec. 35, W½NE¼, W½, and NW¼SE¼.

T. 34 S., R. 12 W.,

Sec. 4, lots 3 and 4, SW¼NW¼, and NW¼SW¼;

Sec. 5, lots 1 to 4, inclusive, S½N½, and N½S½.

T. 35 S., R. 8 W.,

Sec. 13, lots 2 and 3, SW¼NE¼, NE¼SW¼, S½SW¼, and W½SE¼;

Sec. 14, S½SE¼;

Sec. 22, SE¼SW¼ and S½SE¼;

Sec. 23, NE¼NE¼, W½NE¼, SE¼NW¼, and SW¼;

Sec. 24, NW¼NW¼;

Sec. 27, N½NE¼, NW¼, and NE¼SW¼;

Sec. 28, NE¼NE¼.

T. 35 S., R. 9 W.,

Sec. 24, SW¼SE¼;

Sec. 25, NE¼, SW¼, SE¼SW¼, and NW¼SE¼;

Sec. 26, SE¼NE¼, and SE¼;

Sec. 31, lots 3 and 4, and S½SE¼;

Sec. 32, lots 1 to 3, inclusive, S½SW¼, and SW¼SE¼;

Sec. 33, lots 4 to 6, inclusive, SE¼NW¼, and E½SW¼;

Sec. 35, NE¼, E½SW¼, and W½SE¼;

Sec. 36, NW¼NW¼.

T. 35 S., R. 10 W.,

Sec. 2, lot 4, SW¼NW¼ and SW¼;

Sec. 3, lots 1 to 3, inclusive, S½NE¼, N½,SE¼, and SE¼SE¼;

Sec. 10, E½, SE¼NW¼, NE¼SW¼, and S½SW¼;

Sec. 11, lots 3 and 4, and SW¼NW¼;

Sec. 12, SW¼NE¼, SE¼NW¼, E½SW¼, and SE¼;

Sec. 13, NE¼, NE¼NW¼, S½NW¼, SW¼, NE¼SE¼, and W½SE¼;

Sec. 15, NW¼NE¼, NW¼, NE¼SW¼, and W½SW¼;

Sec. 16, E½NE¼ and SE¼;

Sec. 21, E½SW¼ and E½;

Sec. 22, W½ and S½SE¼;

Sec. 23, E½ and SW¼;

Sec. 24, NW¼NE¼, S½NE¼, W½, and SE¼;

Sec. 25, N½NE¼, NW¼, W½SW¼, and NE¼SW¼;

Sec. 26, E½, NE¼NW¼, W½NW¼, NE¼SW¼, and S½SW¼;

Sec. 27, N½ and N½SW¼;

Sec. 28, N½ and N½S½;

Sec. 29, NE¼, NE½NW¼, S½NW¼, SW¼, NE¼SE¼, and W½SE¼;

Sec. 30, lots 1 to 4, inclusive, SE¼NE¼, SE¼NW¼, E½SW¼, and SE¼;

Sec. 31, N½NE¼ and NE¼NW¼;

Sec. 34, NE¼NE¼, S½NE¼, NE¼SW¼, S½SW¼, and SE¼;

Sec. 35, N½NE¼, NW¼, W½SW¼, and NE¼SW¼;

Sec. 36, SE¼SW¼ and SE¼.

T. 35 S., R. 10½ W.,

Sec. 31, lots 3 and 4, SW¼, and W½SE¼.

T. 35 S., R. 11 W.,

Sec. 33, SE¼SE¼;

Sec. 34, lots 1 and 2, NE¼SW¼, SW¼SW¼, N½SE¼, and SE¼SE¼;

Sec. 35, SW¼NW¼, SW¼, and S½SE¼;

Sec. 36, NE¼SW¼, S½SW¼, and SE¼.

T. 35 S., R. 13 W.,

Sec. 31, lot 1, lots 3 to 8, inclusive, portions of lots 2 and 9, N½NE¼, NE¼NW¼, and SE¼SE¼;

Sec. 32, lots 4 and 5, NW¼NW¼, and SW¼SW¼.

T. 36 S., R. 9 W.,

Sec. 4, lots 3 and 4, S½NW¼, SW¼, and NW¼SE¼;

Sec. 5, lots 1 to 4, inclusive, S½N½, NE¼SW¼, and N½SE¼;

Sec. 6, lots 1 to 7, inclusive, S½NE¼, SE¼NW¼, E½SW¼, and NW¼SE¼;

Sec. 7, lot 1.

T. 36 S., R. 10 W.,

Sec. 1, lots 1 to 4, inclusive, S½N½, and S½;

Sec. 2, S½N½ and S½;

Sec. 3, lots 2 to 4, inclusive, S½NW¼, W½SW¼, and E½SE¼;

Sec. 4, lot 1, S½NE¼, S½SW¼, and SE¼;

Sec. 5, SW¼, W½SE¼, and SE¼SE¼;

Sec. 6, SE¼SW¼, and SE¼;

Sec. 7, lots 1 to 3, inclusive, NE¼, E½NW¼, NE¼SW¼, and NW¼SE¼;

Sec. 8, NE¼ and N½NW¼;

Sec. 9, E½, NW¼, and N½SW¼;

Sec. 10, E½NE¼, SW¼NW¼, and S½;

Sec. 11, NE¼, W½, NE¼SE¼, and W½SE¼;

Sec. 12, N½ and NW¼SW¼;

Sec. 14, NE¼NW¼ and W½NW¼;

Sec. 15, NE¼, N½NW¼, and SE¼NW¼.

T. 36 S., R. 11 W.,

Sec. 1, lots 1 to 4, inclusive, and SE¼NE¼;

Sec. 2, lots 1 to 4, inclusive, and S½NW¼;

Sec. 3, lots 1 to 4, inclusive, and S½NE¼;

Sec. 4, lots 1 to 6, inclusive, SW¼NW¼, and W½SW¼;

Sec. 5, lot 1, SE¼NE¼, and E½SE¼;

Sec. 13, S½;

Sec. 14, SE¼, NE¼SW¼, and S½SW¼;

Sec. 15, SW¼, W½SE¼, and SE¼SE¼;

Sec. 16, lots 3 and 4, SE¼SW¼, NE¼SE¼, and S½SE¼;

Sec. 21, N½NE¼ and NE¼NW¼;

Sec. 22, NE¼ and N½NW¼;

Sec. 23, N½N½ and SW¼NW¼;

Sec. 24, N½N½.

T. 36 S., R. 12 W.,

Sec. 22, SE¼SE¼;

Sec. 23, S½SW¼ and SW¼SE¼;

Sec. 26, N½ and N½SW¼;

Sec. 27, NE¼ and NE¼SE¼.

T. 36 S., R. 13 W.,

Sec. 6, S½NE¼ and SE¼.

T. 37 S., R. 12 W.,

Sec. 3, W½SW¼ and SE¼SW¼;

Sec. 4, E½SE¼;

Sec. 18, S½SE¼;

Sec. 19, lots 2 to 4, inclusive, E½, and E½W½;

Sec. 20, W½NW¼, SE¼NW, and N½SW¼;

Sec. 30, lots 1 to 4, inclusive, and E½NW¼;

Sec. 31, NW¼NW¼;

Sec. 34, E½SW¼ and SE¼;

Sec. 35, S½NE¼, SE¼NW¼, and S½;

Sec. 36, W½SW¼.

T. 37 S., R. 12½ W.,

Sec. 24, E½, NE¼NW¼, and SE¼SW¼;

Sec. 25, NE¼, E½NW¼, and E½SE¼.

T. 37 S., R. 13 W.,

Protracted blocks 44 and 46.

T. 37½ S., R. 12 W.,

Sec. 25, lots 2 to 4, inclusive, lots 6 and 7;

Sec. 26, lots 2 to 6, inclusive;

Sec. 27, lot 1;

Protracted blocks 43 and 44.

T. 38 S., R. 8 W.,

Sec. 7, SE¼NE¼ and SE¼;

Sec. 8, lots 2 to 4, inclusive, W½E½, and W½;

Sec. 17;

Sec. 18, E½, SE¼NW¼, NE¼SW¼, and S½SW¼;

Secs. 19 and 20;

Sec. 28, portion of M.S. No. 334;

Sec. 29, lots 1 to 12, inclusive, portion of M.S. No. 334, NW¼NE¼, and NE¼SW¼;

Sec. 30, W½NE¼ and W½;

Sec. 31, NW¼NW¼.

T. 38 S., R. 9 W.,

Sec. 24, NE¼NE¼, S½NE¼, E½SW¼, and SE¼;

Sec. 25, E½, NW¼, and NE¼SW¼;

Sec. 30, SE¼SW¼ and SW¼SE¼;

Sec. 31, E½ and NE¼SW¼;

Sec. 32, S½NW¼ and N½SW¼;

Sec. 36, NE¼NE¼.

T. 39 S., R. 9 W.,

Sec. 19, lots 2 to 4, inclusive, SW¼NE¼, SE¼NW¼, E½SW¼, and SE¼;

Sec. 29, SW¼NW¼ and W½SW¼;

Sec. 30, lots 1 and 2, E½NW¼, and E½;

Sec. 31, lot 4, N½NE¼, SE¼NE¼, E½SW¼, and SE¼;

Sec. 32, W½.

T. 39 S., R. 10 W.,

Sec. 26, S½S½ and NE¼SE¼;

Sec. 34, S½;

Sec. 35, N½, SW¼, N½SE¼, and SE¼SE¼;

Protracted blocks 44 to 46, inclusive.

T. 39 S., R. 11 W.,

Sec. 9, SE¼SE¼;

Sec. 10, W½NW¼, SE¼NW¼, and SW¼;

Sec. 15, NW¼.

T. 39 S., R. 12 W.,

Sec. 28, W½NW¼.

T. 40 S., R. 9 W.,

Sec. 5, lot 4;

Sec. 6, lots 1 to 7, inclusive, SW¼NE¼, SE¼NW¼, E½SW¼, and SW¼SE¼;

Sec. 7, lots 1 to 3, inclusive, W½NE¼, SE¼NE¼, E½W½, and SE¼;

Sec. 8, W½SW¼ and SE¼SW¼;

Sec. 10, E½SE¼;

Sec. 11, lots 4 to 6, inclusive, and N½SW¼;

Sec. 13, NE¼, S½NE¼NW¼, S½NW¼, and N½S½;

Sec. 14, NE¼, N½NW¼, N½SW¼NW¼, SE¼SW¼NW¼, SE¼NW¼, N½NE¼SW¼, and N½SE¼;

Sec. 15, NE¼, W½, and N½SE¼;

Sec. 16, E½, W½NW¼, SE¼NW¼, N½SW¼, and SE¼SW¼;

Sec. 17, N½ and N½SE¼;

Sec. 18, NE¼NE¼;

Sec. 27, S½NE¼ and SE¼;

Sec. 33, SE¼;

Sec. 34, lots 1 to 8, inclusive, NE¼NE¼, W½NE¼, and NW¼SE¼.

T. 40 S., R. 10 W.,

Secs. 2 and 3;

Sec. 4, SE¼NE¼;

Sec. 8, SE¼;

Sec. 9, E½, S½NW¼, and SW¼;

Secs. 10 and 11;

Secs. 14 to 16, inclusive;

Sec. 17, NE¼NE¼, S½NE¼, SE¼NW¼, and S½;

Sec. 19, NE¼NE¼, S½NE¼, E½SW¼, SE¼;

Secs. 20 to 23, inclusive, and secs. 26 to 29, inclusive;

Sec. 30, lots 2 to 4, inclusive, E½, and E½W½;

Protracted blocks 37 to 46, inclusive.

T. 40 S., R. 11 W.,

Sec. 25, NE¼SE¼ and S½SE¼; protracted blocks 42 and 43.

T. 40 S., R. 12 W.,

Sec. 14, SW¼NE¼ and E½NW¼;

Sec. 15, S½NE¼, SE¼NW¼, N½SW¼, and NW¼SE¼;

Sec. 16, SW¼NE¼, SE¼NW¼, and N½SW¼.

T. 40 S., R. 13 W.,

Sec. 12, lot 14;

Sec. 13, NW¼NW¼.

T. 41 S., R. 6 W.,

Sec. 7, lots 1 and 2, NE¼, and W½NW¼;

Sec. 8, NE¼NW¼ and S½NW¼.

T. 41 S., R. 7 W.,

Sec. 8, SE¼SE¼;

Sec. 12, NE¼NE¼;

Sec. 16, NW¼NW¼;

Sec. 17, N½NE¼.

T. 41 S., R. 8 W.,

Sec. 15, lot 1, W½NE¼, and SE¼NE¼.

T. 41 S., R. 9 W.,

Sec. 4, lots 1 and 2, S½NE¼, and S½;

Sec. 5, S½SE¼;

Sec. 8, E½;

Sec. 17, lots 1 and 2, N½, N½SW¼, and NW¼SE¼;

Sec. 18, lots 1 to 7, inclusive, NE¼, E½NW¼, NE¼SW¼, and N½SE¼.

T. 41 S., R. 10 W.,

Sec. 3, NW¼NE¼ and NW¼;

Sec. 4, NE¼, W½, N½SE¼, SW¼SE¼;

Secs. 5 and 6;

Sec. 7, NE¼;

Sec. 8, E½, NW¼, N½SW¼, and SE¼SW¼;

Sec. 9, NW¼NE¼, NW¼, and W½SW¼.

T. 41 S., R. 11 W.,

Sec. 1;

Sec. 2, NE¼NE¼, S½NE¼, NE¼SW¼, S½SW¼, and SE¼;

Sec. 11, N½NE¼ and NW¼;

Sec. 12, NW¼NW¼.

T. 41 S., R. 12 W.,

Sec. 3, NW¼NW¼;

Sec. 7, lot 16, NE¼, and SW¼SE¼;

Sec. 8, SW¼NE¼, NW¼, N½SW¼, SE¼SW¼, and W½SE¼;

Sec. 11, SW¼SE¼;

Sec. 14, S½N½, NE¼NW¼, NE¼SW¼, and NW¼SE¼;

Sec. 17, S½NW¼ and N½SW¼;

Sec. 18, lot 1 and NW¼NE¼.

The area described contains approximately 81,769.50 acres in Curry, Coos, Josephine, and Douglas County.

Humboldt Meridian

Siskiyou National Forest

T. 18 N., R. 5 E.,

Sec. 1, W½SW¼ and SE¼SW¼;

Sec. 2, lots 2 to 4, inclusive, S½NE¼, and NE¼SE¼;

Sec. 12, E½NW¼, SW¼NW¼, and W½SW¼;

Sec. 13, NW¼ NW¼.

T. 19 N., R. 5 E.,

Sec. 34, lots 1, 3, 5, and 6, NE¼SW¼, N½SE¼, and SE¼SE¼.

Sec. 35, W½SW¼ and SE¼SW¼;

The area described contains 1,059.85 acres in Del Norte County.

For a period of 90 days from the date of publication of this notice, all persons who wish to submit comments, suggestions, or objections in connection with the proposed withdrawal may present their views in writing to the Forest Supervisor, Siskiyou National Forest, at the address stated above.

Notice is hereby given that a public meeting will be provided in connection with the proposed withdrawal. The times, dates, and places for the meetings will be announced in a subsequent notice published in the Federal Register at least 30 days before the scheduled date of the meeting.

The application will be processed in accordance with the regulations set fourth in 43 CFR 2300. For a period of 2 years from the date of publication of this notice in the Federal Register, the lands will be segregated from location and entry under the United States mining laws unless the application is denied or canceled or the withdrawal is approved prior to that date. All temporary land uses identified in 43 CFR 2310.2(c) may be approved while the lands remain segregated which include, applications for licenses, permits, cooperative agreements or other discretionary land use authorizations of a temporary nature. Locatable mineral operations (36 CFR 228.3(a)) conducted on or for the benefit of mining claims located prior to the effective date of this segregation, can continue and may be allowed without first conducting a valid existing rights determination.

Dated: November 26, 2001.
Robert D. DeViney, Jr.,
Chief, Branch of Realty and Records Services.

[FR Doc. 02-12676 Filed 5-20-02; 8:45 am]

BILLING CODE 4310-33-P